DEPARTMENT OF COMMERCE

Foreign-Trade Zones Board

[Docket 4-2004]

Foreign-Trade Zone 39—Dallas/Fort Worth, TX, Application for Subzone, Turbomeca U.S.A. (Helicopter Engine Repair and Maintenance); Grand Prairie, TX

An application has been submitted to the Foreign-Trade Zones Board (the Board) by the Dallas/Fort Worth International Airport, grantee of FTZ 39, requesting special-purpose subzone status for the manufacturing and warehousing facilities of Turbomeca U.S.A. (Turbomeca), located in Grand Prairie, Texas. The application was submitted pursuant to the provisions of the Foreign-Trade Zones Act, as amended (19 U.S.C. 81a-81u), and the regulations of the Board (15 CFR part 400). It was formally filed on February 20, 2004.

The Turbomeca facility (11 acres, 200 employees) is located at 2709 Forum Drive, Grand Prairie, Texas. The facility will be used for the repair and maintenance of helicopter engines (HTS 8411.81 duty-free). Components and materials sourced from abroad (representing 100% of all parts used in the manufacturing process) include: O-Rings and seals, maintenance manuals, mechanical fittings, unions, sleeves and couplings, connection hardware, springs, tools for assembly, engines and engine kits, parts of engines, fuel and oil pumps, filters and filter elements, valves, gears, electrical switches, control boxes, electrical wiring and harness, measuring tools, fuel control units, pressure transmitters, parts of fuel control units, fire detectors, speed sensing devices, electrical test equipment (duty rate ranges from duty-free to 9%) and bearings (HTS 8482.10 and 8482.50, duty rate ranges from 5.8-9%). The application indicates that bearings would be admitted in privileged-foreign status.

FTZ procedures would exempt Turbomeca from Customs duty payments on the foreign components used in export production. Some 25 percent of the plant's shipments are exported. On its domestic sales, Turbomeca would be able to choose the duty rates during Customs entry procedures that apply to engines (duty-free) for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is April 30, 2004. Rebuttal comments in response to material submitted during the foregoing period may be submitted during the subsequent 15-day period (to May 17, 2004).

A copy of the application and accompanying exhibits will be available for public inspection at the Office of the Foreign-Trade Zones Board's Executive Secretary at the first address listed above, and at the U.S. Department of Commerce Export Assistance Center, 2000 E. Lamar Boulevard, Suite 430, Arlington, Texas 76006.

Dated: February 20, 2004.
Dennis Puccinelli,
Executive Secretary.

[FR Doc. 04-4495 Filed 2-27-04; 8:45 am]

BILLING CODE 3510-DS-P